DEPARTMENT OF THE INTERIOR

National Park Service

Final Environmental Impact Statement; Fire Management Plan for Santa Monica Mountains National Recreation Area; Los Angeles and Ventura Counties, CA; Notice of Availability

SUMMARY: Pursuant to section 102(2)(C) of the National Environmental Policy Act of 1969 (Pub. L. 91-190, as amended), and the Council on Environmental Quality Regulations (40 CFR parts 1500-1508), the National Park Service, Department of the Interior, has prepared a Final Environmental Impact Statement (FEIS) identifying and evaluating four alternatives for a Fire Management Plan for the Santa Monica Mountains National Recreation Area (SMMNRA). Potential impacts, and appropriate mitigations, are assessed for each alternative. When approved, the plan will guide all future fire management actions in the SMMNRA for the next five years. The FEIS documents the analysis of three action alternatives and a “no action” alternative.

An updated fire management program is needed to meet public safety, natural and cultural resource management, and wildland/urban interface protection objectives in the federally managed property of the SMMNRA. The “action” alternatives concentrate on wildland/urban interface community protection work and ecosystem protection, and vary in their mix of treatments available for completing work. The “no action” alternative describes the existing fire management program, which the park has not been able to effectively implement to protect neighboring lives and property. As a result, the risk of catastrophic fire has increased in recent decades.

Proposal and Alternatives Considered: Alternative 2 (determined to be the “environmentally preferred” alternative) is proposed for implementation as the new Fire Management Plan (FMP). Termed the Mechanical Fuel Reduction/Ecological Prescribed Fire/Strategic Fuels Treatment alternative, it provides the maximum potential environmental benefits and minimizes the adverse impacts of fire management actions. Alternative 2 is the most flexible alternative, utilizing all available fire management strategies identified to be appropriate in the Santa Monica Mountains. Although strategic fuels reduction has the potential for both impacts and benefits in most of the impact areas analyzed, individual strategic fuels reduction projects would be evaluated for their potential risk: benefit ratio. Work would be accomplished with a combination of NPS and other agency fire crews and by contract.

Alternative 1 (No Action Alternative) would continue the current NPS fire and vegetation management program to create a landscape mosaic of varying aged chaparral stands through the application of prescribed fire in separate watersheds, minimizing brush clearance. It should be noted that large scale burning has not been feasible to implement in accordance with the goals of the previous Fire Management Plan because of regulatory constraints on prescribed fire, especially those relating to air quality standards. Alternative 3 (Mechanical Fuel Reduction/Ecological Prescribed Fire) relies exclusively on prescribed burning to provide resource enhancement including control of exotic species and restoration of natural communities. Mosaic burning is eliminated. Fuel reduction is concentrated at the wildland urban interface to protect existing development and emphasizes mechanical or biomechanical fuel modification. This alternative provides effective protection of homes by focusing mechanical fuel reduction at the interface between homes and wildland vegetation, and provides ecological benefits from resource prescribed burning. Alternative 4 (Only Mechanical Fuel Reduction) relies exclusively on mechanical or biomechanical fuel modification at the wildland urban interface. Prescribed fire is eliminated. This alternative provides effective protection of homes by focusing mechanical fuel reduction at the interface between homes and wildland vegetation.

Alternatives Considered but Rejected: Three additional alternatives were considered but rejected from further deliberation because the interdisciplinary team determined that they were not feasible for one or more specific reasons. Alternative 5 (Suppression Only/No Vegetation Manipulation) was found to be inconsistent with NPS policies and guidelines as well as with the objectives of the SMMNRA fire management program, and inadequate to protect public safety. Alternative 6 (Mechanical Fuel Reduction on a Landscape Level) was also found to be inconsistent with NPS policies and guidelines as well as the objectives of the SMMNRA fire management program. Alternative 7 (Wildland Fire Use) could be a threat to public safety if implemented and logistically infeasible to implement along the wildland-urban interface.

Planning Background: Public outreach was initiated in June 2001 coinciding with a planning workshop for agencies, cooperators and other partners. A Notice of Scoping for an environmental document was published in the Federal Register March 26, 2002, encouraging comments through an extensive scoping period ending August 31, 2002. Four public scoping meetings were hosted in Beverly Hills, Calabasas, Malibu and Thousand Oaks, California. Two additional meetings were held to gain additional input on the preliminary alternatives from fire agencies, cooperators and other partners. Letters were also sent to Native American representatives, requesting their comments and concerns related to cultural activities, practices or resources. Concerns raised in these meetings included: how to provide for public and firefighter safety; how to optimize the effectiveness of fuels treatments in the wildland-urban interface for property protection and to minimize impacts; the need to promote operational and policy coordination among all the agencies within the SMMNRA, including consistent brush clearance policies; the impact of fire management activities including suppression actions; containing the spread of invasive plants and animals; the use of prescribed fire for restoration activities, and appropriate land use planning. Based on the issues and concerns raised it was determined that an environmental impact statement rather than an environmental assessment would be completed. This would allow sufficient analysis to be undertaken in assessing the effects of particular alternatives and to ensure adequate involvement by the public and interested agencies.

The distribution of Draft environmental impact statement (DEIS) for the FMP began in May, 2004. Approximately 250 DEISs were distributed; 85 went to local libraries, 20 were handed out at the SMMNRA Visitor Center, and the remainder was provided to individuals by mail or in person at public meetings. A notice of availability of the DEIS was published in the Federal Register June 16, 2004, providing an opportunity for public review and comment through September 15, 2004. In order to facilitate public review and understanding of the proposed plan, four public meetings were held during July, 2004 in Calabasas, Woodland Hills, Malibu and Thousand Oaks, California. The meetings were advertised through the print media, on the SMMNRA website and via 350 invitations sent to community leaders, neighborhood organizations, local agencies and stakeholder groups.

The NPS received a total of 25 written responses, generated either from the public meetings or from public notices. All of these comments were duly considered in finalizing in the FEIS. Two main issues and concerns were expressed by the respondents: that the FEIS and FMP should prioritize public and firefighter safety as well as the protection of the unique Mediterranean ecosystem which the SMMNRA was established to protect. All alternatives provide numerous provisions for public and firefighter safety. Alternatives 2, 3 and 4 incorporate strong controls to protect native flora and fauna, minimizing the spread of invasive grasses and forbs. The Environmental Protection Agency expressed environmental concerns due to insufficient information. SMMNRA staff consulted closely with the EPA in preparing the FEIS. All comments and responses are documented in Appendix F of the FEIS.

ADDRESSES: Copies of the FEIS may be obtained from the Superintendent, Santa Monica Mountains National Recreation Area, 401 W. Hillcrest Drive, Thousand Oaks, CA 91360, Attn: Fire Management Plan, or by e-mail request to: samo_fire@nps.gov (in the subject line, type: Fire Management Plan). The FEIS will be sent directly to those who previously received the DEIS or who have requested subsequently. The FEIS will also be available at local libraries in Agoura Hills, Beverly Hills, Calabasas, Malibu, Oak Park, Oxnard, Santa Monica, Thousand Oaks, Westlake Village and selected locations in Los Angeles; and at regional libraries in Ventura County and selected locations in Los Angeles County. A comprehensive list of these locations, as well as the document itself, is posted on the park's Web page (http://www.nps.gov/samo/pphtml/documents.html).

Decision: As a delegated EIS, the official responsible for the final decision is the Regional Director, Pacific West Region; a Record of Decision may be approved by the Regional Director not sooner than 30 days after EPA's publication of the notice of filing of the FEIS in the Federal Register. Notice of the final decision will be also posted in the Federal Register. Following approval of the Fire Management Plan, the official responsible for implementation will be the Superintendent, SMMNRA.

Dated: November 3, 2005.
George J. Turnbull,
Acting Regional Director, Pacific West Region.

[FR Doc. E5-7893 Filed 12-27-05; 8:45 am]

BILLING CODE 4312-FE-P